DEPARTMENT OF TRANSPORTATION

Federal Railroad Administration

[Docket No. FRA 2000-7290]

Petition for Waiver To Operate Special Train

The National Railroad Passenger Corporation (Amtrak) has filed a letter with the Federal Railroad Administration (FRA) seeking approval to operate a special non-revenue train for the Arizona Department of Transportation on May 5, 2000. A copy of this letter is included in the docket. The two-hour train run will use track owned by the Union Pacific between Phoenix and Tucson, Arizona. The train proposed for use will include two Amtrak locomotives, one at each end, and a 12-car trainset manufactured by Talgo. The Talgo trainset is currently being operated by Amtrak in the Pacific Northwest Rail Corridor between Eugene, Oregon and Vancouver, British Columbia. FRA is treating the request as a temporary waiver request from the requirements of 49 CFR 238.203.

Amtrak has previously filed a grandfathering petition with FRA for approval to continue using the trainset in question and four other Talgo trainsets; these trainsets do not meet the static end strength standards specified in 49 CFR 238.203. This grandfathering petition has been docketed as Docket No. FRA-1999-6404. Paragraph (d) of section 238.203 allows a railroad to continue using railroad passenger equipment that does not conform to FRA's static end strength requirements on a particular rail line or lines while a petition for grandfathering approval is being processed. None of the five trainsets has been used on the Union Pacific's rail line between Phoenix and Tucson.

Amtrak's letter includes the following discussion of the special precautions Amtrak is taking to protect the safety of the special train run.

The precautions that we are prepared to take—such as: (i) ensuring that an Amtrak locomotive will be on each end of the Talgo trainset, followed by a Talgo power or baggage car that carries no passengers; (ii) operating the equipment during daylight hours only; (iii) ensuring operating supervision by both the Union Pacific and Amtrak; (iv) maintaining speed restrictions within yard limits; and (v) having the State of Arizona provide increased grade crossing protection—when coupled with the fact that we will be using equipment that is currently operating safely under similar conditions in the Pacific Northwest, demonstrates that this special train will in no way compromise the safety of the passengers, railroad employees or the general public.

Interested parties are invited to participate in this proceeding (Docket No. FRA-2000-7290) by submitting written views, data, or comments. In accordance with 49 CFR 211.25, FRA has decided to hold a public hearing on Amtrak's request to use the trainset on the special train run. A public hearing is hereby set for 1 p.m. on Wednesday, May 3, 2000, at the Federal Railroad Administration, 7th floor, conference room 2, 1120 Vermont Ave., NW, Washington, DC 20590. Interested parties are invited to present oral statements at the hearing. The hearing will be an informal one and will be conducted in accordance with FRA's Rules of Practice (49 CFR 211.25) by a representative designated by FRA. The hearing will be a non-adversarial proceeding; therefore, there will be no cross-examination of persons presenting statements. The FRA representative will make an opening statement outlining the scope of the hearing. After all initial statements have been completed, those persons wishing to make a brief rebuttal will be given the opportunity to do so in the same order in which initial statements were made. Additional procedures, if necessary for the conduct of the hearing, will be announced at the hearing.

Written comments should identify Docket No. FRA-2000-7290 and must be submitted to the Docket Clerk, DOT Management Facility, Room PL-401 (Plaza Level), 400 7th Street, SW, Washington, DC 20590. Communications received by May 3, 2000 will be considered by FRA before final action is taken. Comments received after that date will be considered as far as practicable. All written communications concerning this proceeding are available for examination during regular business hours (9 a.m.-5 p.m.) at the above facility. All documents in the public docket are also available for inspection and copying on the Internet at the docket facility's web site at http://dms.dot.gov.

FRA makes clear that the hearing scheduled for May 3, 2000 is not a hearing on the merits of Amtrak's grandfathering petition, identified as Docket No. FRA-1999-6404.

Issued in Washington, DC, on April 26, 2000.
S. Mark Lindsey,
Acting Deputy Administrator, Federal Railroad Administration.

[FR Doc. 00-10835 Filed 4-28-00; 8:45 am]

BILLING CODE 4910-06-P